DEPARTMENT OF ENERGY

Federal Energy Regulatory Commission

Combined Notice of Filings #1

Take notice that the Commission received the following exempt wholesale generator filings:

Docket Numbers: EG15-98-000.

Applicants: North Star Solar, LLC.

Description: Self-Certification of EG or FC of North Star Solar, LLC.

Filed Date: 6/23/15.

Accession Number: 20150623-5076.

Comments Due: 5 p.m. ET 7/14/15.

Take notice that the Commission received the following electric rate filings:

Docket Numbers: ER10-2331-031; ER14-630-008; ER10-2326-029; ER10-2330-030.

Applicants: J.P. Morgan Ventures Energy Corporation, AlphaGen Power LLC, Cedar Brakes I, L.L.C., Utility Contract Funding, L.L.C.

Description: Updated market power analysis for the Central Region of the JPMorgan Sellers.

Filed Date: 6/23/15.

Accession Number: 20150623-5061.

Comments Due: 5 p.m. ET 8/24/15.

Docket Numbers: ER13-1371-001.

Applicants: GP Big Island, LLC.

Description: Compliance filing per 35: compliance to 8202016 to be effective 6/24/2015.

Filed Date: 6/23/15.

Accession Number: 20150623-5007.

Comments Due: 5 p.m. ET 7/14/15.

Docket Numbers: ER13-1923-002.

Applicants: Midcontinent Independent System Operator, Inc.

Description: Compliance filing per 35: 2015-06-22_MISO_SERTP Order 1000 Compliance to be effective 1/1/2015.

Filed Date: 6/22/15.

Accession Number: 20150622-5185.

Comments Due: 5 p.m. ET 7/13/15.

Docket Numbers: ER15-1841-001.

Applicants: Panda Liberty LLC.

Description: Tariff Amendment per 35.17(b): Supplement to Market-Based Rate Application to be effective 7/17/2015.

Filed Date: 6/22/15.

Accession Number: 20150622-5195.

Comments Due: 5 p.m. ET 7/13/15.

Docket Numbers: ER15-1905-001.

Applicants: AZ721 LLC.

Description: Tariff Amendment per 35.17(b): Amendment to Market Based Rate to be effective 8/11/2015.

Filed Date: 6/22/15.

Accession Number: 20150622-5177.

Comments Due: 5 p.m. ET 7/13/15.

Docket Numbers: ER15-1961-000.

Applicants: L'Anse Warden Electric Company.

Description: Tariff Withdrawal per 35.15: Notice of Cancellation to be effective 6/23/2015.

Filed Date: 6/22/15.

Accession Number: 20150622-5188.

Comments Due: 5 p.m. ET 7/13/15.

Docket Numbers: ER15-1962-000.

Applicants: 67RK 8me LLC.

Description: Initial rate filing per 35.12 SFA to be effective 7/16/2015.

Filed Date: 6/22/15.

Accession Number: 20150622-5194.

Comments Due: 5 p.m. ET 7/13/15.

Docket Numbers: ER15-1963-000.

Applicants: 65HK 8me LLC.

Description: Initial rate filing per 35.12 SFA to be effective 7/16/2015.

Filed Date: 6/22/15.

Accession Number: 20150622-5199.

Comments Due: 5 p.m. ET 7/13/15.

Docket Numbers: ER15-1964-000.

Applicants: 87RL 8me LLC.

Description: Initial rate filing per 35.12 SFA to be effective 7/16/2015.

Filed Date: 6/23/15.

Accession Number: 20150623-5001.

Comments Due: 5 p.m. ET 7/14/15.

Docket Numbers: ER15-1965-000.

Applicants: Southwest Power Pool, Inc.

Description: Section 205(d) rate filing per 35.13(a)(2)(iii): 1276R8 KCP&L NITSA NOA and Cancellation of 1765R11 KCPL-GMO to be effective 6/1/2015.

Filed Date: 6/23/15.

Accession Number: 20150623-5039.

Comments Due: 5 p.m. ET 7/14/15.

Docket Numbers: ER15-1966-000.

Applicants: PJM Interconnection, L.L.C.

Description: Section 205(d) rate filing per 35.13(a)(2)(iii): Revisions to OATT Att K-Appendix and OA Schedule 1 re Lost Opportunity Cost to be effective 9/1/2015.

Filed Date: 6/23/15.

Accession Number: 20150623-5102.

Comments Due: 5 p.m. ET 7/14/15.

Docket Numbers: ER15-1967-000.

Applicants: Renaissance Power, L.L.C.

Description: Section 205(d) rate filing per 35.13(a)(2)(iii): Reactive Rate Filing to be effective 1/21/2015.

Filed Date: 6/23/15.

Accession Number: 20150623-5106.

Comments Due: 5 p.m. ET 7/14/15.

Docket Numbers: ER15-1968-000.

Applicants: Midcontinent Independent System Operator, Inc.

Description: Section 205(d) rate filing per 35.13(a)(2)(iii): 2015-06-23_SA 2707 NSP-Odell Wind Farm 2nd Rev GIA (G826) to be effective 6/24/2015.

Filed Date: 6/23/15.

Accession Number: 20150623-5111.

Comments Due: 5 p.m. ET 7/14/15.

Docket Numbers: ER15-1969-000.

Applicants: NorthWestern Corporation.

Description: Section 205(d) rate filing per 35.13(a)(2)(iii): Revised Rate Schedule 188—Colstrip 1 and 2 Transmission Agreement to be effective 9/1/2015.

Filed Date: 6/23/15.

Accession Number: 20150623-5112.

Comments Due: 5 p.m. ET 7/14/15.

Docket Numbers: ER15-1970-000.

Applicants: San Diego Gas & Electric Company.

Description: Initial rate filing per 35.12 System Impact Study Agreement, Service Agreement No. 51 to be effective 6/24/2015.

Filed Date: 6/23/15.

Accession Number: 20150623-5133.

Comments Due: 5 p.m. ET 7/14/15.

Take notice that the Commission received the following electric securities filings:

Docket Numbers: ES15-37-000.

Applicants: Michigan Electric Transmission Company, LLC.

Description: Application under Section 204 of Michigan Electric Transmission Company, LLC.

Filed Date: 6/22/15.

Accession Number: 20150622-5200.

Comments Due: 5 p.m. ET 7/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 23, 2015.
Kimberly D. Bose,
Secretary.

[FR Doc. 2015-15869 Filed 6-26-15; 8:45 am]

BILLING CODE 6717-01-P